ENVIRONMENTAL PROTECTION AGENCY

[FRL-8962-3]

Gulf of Mexico Program Citizens Advisory Committee Meeting

AGENCY: Environmental Protection Agency (EPA).

ACTION: Notice of meeting.

SUMMARY: Under the Federal Advisory Committee Act (Pub. L. 92-463), EPA gives notice of a meeting of the Gulf of Mexico Program (GMP) Citizens Advisory Committee (CAC).

DATES: The meeting will be held on Monday, October 19, 2009, from 9 a.m. to 11:45 a.m. and from 3:30 p.m. to 7 p.m.

ADDRESSES: The meeting will be held at the Sheraton Hotel, 555 Canal Street, New Orleans, LA 70130.

For information on access or services for individuals with disabilities, please contact Gloria Car, U.S. EPA, at (228) 688-2421 or car.gloria@epa.gov. To request accommodation of a disability, please contact Gloria Car, preferably at least 10 days prior to the meeting, to give EPA as much time as possible to process your request.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: A discussion regarding CAC business (recruitment update, communication strategy, member updates, next meeting); Gulf of Mexico End of Fiscal Year Accomplishments; Wetlands Loss Presentation; and member participation in the Ocean Policy Public Listening Session.

The meeting is open to the public.

Dated: September 17, 2009.
Gloria D. Car,
Designated Federal Officer.

[FR Doc. E9-23083 Filed 9-23-09; 8:45 am]

BILLING CODE 6560-50-P